DEPARTMENT OF HEALTH AND HUMAN SERVICES

Health Care Financing Administration

42 CFR Parts 409, 410, 411, 413, 424, and 484

[HCFA-1059-F2]

RIN 0938-AJ24

Medicare Program; Prospective Payment System for Home Health Agencies; Correction

AGENCY: Health Care Financing Administration (HCFA), HHS.

ACTION: Correcting amendments.

SUMMARY: This document corrects technical errors that appeared in the final rule entitled, “Medicare Program; Prospective Payment System for Home Health Agencies,” published in the Federal Register on July 3, 2000.

EFFECTIVE DATE: October 1, 2000.

FOR FURTHER INFORMATION CONTACT: Sharon Ventura, (410) 786-1985.

SUPPLEMENTARY INFORMATION:

Background

In the July 3, 2000 final rule entitled, “Medicare Program; Prospective Payment System for Home Health Agencies,” (65 FR 41128), Federal Register Docket Number 00-16432, there were several technical errors. We transposed a number in a code included in the list of non-routine medical supplies that have a duplicate Part B code that could have been unbundled and billed under Part B before implementation of the prospective payment system (PPS). The code we listed is “A4454—Tape all types all sizes” but should be “A4554—Disposable underpads”. In addition, we inadvertently left out a code for “A6248—Hydrogel drg gel filler” that should be added to the list.

We also noted a list of codes that should be deleted from the list. This list included codes “K0137—Skin barrier liquid per oz”, “K0138—Skin barrier paste per oz”, and “K0139—Skin barrier powder per oz”. These codes were inadvertently retained on the final list and should have been deleted in the final rule.

We inadvertently used the word “start” instead of the word “end” in the last complete sentence in the second paragraph on page 41165.

We are correcting the table in the middle of page 41168 to remove the asterisks each time they appear (seven times), as well as the corresponding reference below the chart because in some instances the selection of N/A at M0825 would be valid for a Medicare patient. For example, a patient returning to home health care after an inpatient stay may not warrant a significant change in condition (SCIC) adjustment. In this case, the response to item M0825 would be N/A.

We are revising Table 4A, “Wage Index for Rural Areas—FY 2000 Pre-Floor and Pre-Reclassified” and Table 4B, “Wage Index for Urban Areas—FY 2000 Pre-Floor and Pre-Reclassified,” to account for several technical and typographical errors.

We are correcting a typographical error in a footnote under the last table on page 41184.

In Table 7, “Home Health Resource Group Case-Mix Classification Decision Tree Logic,” we are correcting a typographical error to an OASIS item number, and we are adding the OASIS item number that was inadvertently not noted in the final rule.

In the final rule, we added § 411.15(q), which superseded an already existing § 411.15(q). To correct this, we are redesignating § 411.15(q) to § 411.15(r) and republishing § 411.15(q) as it existed before the publication of the final rule.

We are making technical corrections to the following sections of the regulations to include additional conforming changes that were inadvertently not included in the July 3, 2000 final rule: §§ 484.14, 484.36, and 484.52.

Correction of Errors

In FR Doc. 00-16432 of July 3, 2000 (65 FR 41128), we are making the following corrections:

Corrections to the Preamble

1. On page 41138, in column one, in line 25 from the top of the page, the code “A4454—Tape all types all sizes” is removed.

2. On page 41138, the following codes are added to the list for non-routine medical supplies that have a duplicate Part B code that could have been unbundled and billed under Part B before implementation of PPS:

(a) In column one, the code “A4554—Disposable underpads” is inserted after “A4481—Tracheostoma filter” and before “A4622—Tracheostomy or larngectomy”.

(b) In column two, the code “A6248—Hydrogel drg gel filler” is inserted after code “A6247—Hydrogel drg > 48 sq in w/b” and before code “A6251—Absorpt drg < = 16 sq in w/o b”.

3. On page 41138, in column two, lines 21, 22, and 23 from the bottom of the page, the following codes are removed: “K0137—Skin barrier liquid per oz”, “K0138—Skin barrier paste per oz”, and “K0139—Skin barrier powder per oz”.

4. On page 41165, at the bottom of column two, the phrase in the last complete sentence of the paragraph beginning on the fifth line from the bottom of the page is revised to read “then the MSA or non-MSA at the end of the episode governs the labor adjustment * * *”

5. On page 41168, in the chart in the center of the page, the asterisks are removed each time they appear (seven times), including the corresponding reference below the chart.

6. On page 41173, in Table 4A, the entry for Guam of 0.7268 under “Wage Index” is revised to read 0.9611.

7. On page 41173, in Table 4A, the entry for the Virgin Islands of 0.6389 under “Wage Index” is revised to read 0.6306.

8. On page 41174 and continuing through page 41179, in Table 4B, “Wage Index For Urban Areas—FY 2000 Pre-Floor and Pre-Reclassified,” the entries for the urban areas listed below are revised to read as follows:

MSA | Urban area (constituent counties) | Wage index
0580 | Auburn-Opelka, AL Lee, AL | 0.7749
0680 | Bakersfield, CA Kern, CA | 0.9619
1080 | Boise City, ID Ida, ID Canyon, ID | 0.9061
4150 | Lawrence, KS Douglas, KS | 0.8223
6680 | Reading, PA Berks, PA | 0.9437
7160 | Salt Lake City-Ogden, UT Davis, UT Salt Lake, UT Weber, UT | 0.9855
7880 | Springfield, IL Menard, IL Sangamon, IL | 0.8684
8080 | Steubenville-Weirton, OH-WV Jefferson, OH Brooke, WV Hancock, WV | 0.8615

9. On page 41184, under the last table titled “Calculation for the Part B Therapies,” in the footnote beneath the table, “57 CPT therapy codes” is revised to read “54 CPT therapy codes”.

10. On page 41194, in Table 7, “Home Health Resource Group Case-Mix Classification Decision Tree Logic,” under the heading “Service utilization domain”, in the first column titled “Variable”, “M0170” is revised to read “M0175” in both instances. Also in that column, “M0825—” is added before “Receipt of Therapy”.

11. On page 41205, in column one, beginning at line 30 from the top of the page, in the section heading and in the paragraph below it, “411.15(q)” is revised to read “411.15(r)”.

Corrections to the Regulations Text

List of Subjects

42 CFR Part 411

Kidney diseases, Medicare, Reporting and recordkeeping requirements.

42 CFR Part 484

Health facilities, Health professions, Medicare, Reporting and recordkeeping requirements.

Accordingly, 42 CFR parts 411 and 489 are corrected by making the following correcting amendments:

PART 411—EXCLUSIONS FROM MEDICARE AND LIMITATIONS ON MEDICARE PAYMENT

1. The authority citation for part 411 continues to read as follows:

Authority: Secs. 1102 and 1871 of the Social Security Act (42 U.S.C. 1302 and 1395hh).

§ 411.15 [Corrected]

2. Section 411.15 is amended by—

A. Republishing the introductory text to the section.

B. Redesignating paragraph (q) as paragraph (r).

C. Adding paragraph (q) to read as follows:

§ 411.15 Particular services excluded from coverage.

The following services are excluded from coverage:

* * * * *

(q) Assisted suicide. Any health care service used for the purpose of causing, or assisting to cause, the death of any individual. This does not pertain to the withholding or withdrawing of medical treatment or care, nutrition or hydration or to the provision of a service for the purpose of alleviating pain or discomfort, even if the use may increase the risk of death, so long as the service is not furnished for the specific purpose of causing death.

PART 484—HOME HEALTH SERVICES

1. The authority citation for part 484 continues to read as follows:

Authority: Secs. 1102 and 1871 of the Social Security Act (42 U.S.C. 1302 and 1395(hh), unless otherwise indicated.

§ 484.14 [Corrected]

2. In § 484.14, in paragraph (g), the phrase “62 days” is revised to read “60 days”.

§ 484.36 [Corrected]

3. In § 484.36, in paragraph (d)(3), the phrase “62 days” is revised to read “60 days”.

§ 484.52 [Corrected]

4. In § 484.52, in paragraph (b), the phrase “62-day period” is revised to read “60-day period”.

(Catalog of Federal Domestic Assistance Program No. 93.773 Medicare—Hospital Insurance; and Program No. 93.774, Medicare—Supplementary Medical Insurance Program)

Dated: June 6, 2001.
Brian P. Burns,
Deputy Assistant Secretary for Information Resources Management.

[FR Doc. 01-14986 Filed 6-15-01; 8:45 am]

BILLING CODE 4120-01-P